FEDERAL COMMUNICATIONS COMMISSION

[OMB 3060-1094; FR ID 300226]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before August 25, 2025. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1094.

Title: Transforming the 2.5 GHz Band.

Form Number: N/A.

Type of Review: Extension of a currently approved collection.

Respondents: Business or other for-profit entities, not-for-profit institutions, and state, local, or tribal Government.

Number of Respondents: 50 respondents; 135 responses.

Estimated Time per Response: .50 hour-2 hours.

Frequency of Response: On occasion reporting requirement and third-party disclosure requirement.

Obligation to Respond: The statutory authority for the Commission to carry out these collections are contained in 47 U.S.C. 151, 152, 153, 154, 155, 157, 301, 302, 303, 307, 308, 309, 310, and 316.

Total Annual Burden: 120 hours.

Total Annual Cost: $90,000.

Needs and Uses: The collection is being extended for three years once approved by the Office of Management and Budget. The Commission adopted service rules, Construction Requirements (47 CFR 27.14(u), and a Tribal Priority Filing Window (47 CFR 27.1204). This collection includes Part 27 rules that govern reporting, and third-party disclosure requirements related to 2500-2690 MHz Band. The following information collected for the service rules are: section 27.14(u) requires Educational Broadband Service (EBS) licensees to file construction notifications and certify that they have met the applicable performance benchmarks; section 27.1204 requires an EBS applicant applying for a license in the Tribal Priority Filing Window to demonstrate that they are: (1) a federally recognized American Indian tribe or Alaska Native Village; or an entity that is owned and controlled by a federally-recognized Tribe or a consortium of federally-recognized Tribes; (2) requesting a license on Tribal land; (3) requesting a license in a rural area; and (4) have a local presence on the Tribal land for which they are applying; and section 27.1221(f) requires Broadband Radio Service (BRS) and EBS licensees to provide the geographic coordinates, the height above ground level of the center of radiation for each transmit and receive antenna, and the date transmissions commenced if requested by a co-channel licensee.

Federal Communications Commission.
Marlene Dortch,
Secretary.

[FR Doc. 2025-11542 Filed 6-23-25; 8:45 am]

BILLING CODE 6712-01-P